Proclamation 10635 of September 29, 2023

National Breast Cancer Awareness Month, 2023

By the President of the United States of America

A Proclamation

Cancer touches nearly every family in America, including mine. That is why finding cures and addressing the needs of patients and their families is a central pillar of my Unity Agenda, as I discussed in my very first State of the Union address—it is the kind of goal that can unite us all as Americans, regardless of our differences. This National Breast Cancer Awareness Month, let us all recommit to the work of ending cancer as we know it. May we honor those we have lost, offer strength to those who continue to live with breast cancer, and work to protect the health of future generations.

Nearly 300,000 women will be diagnosed with breast cancer this year, and one in eight women in America will be diagnosed with the disease in their lifetimes. We have made enormous progress in our decades-long fight against cancer—discovering new prevention and early-detection measures and exploring medicines and therapies to extend and save lives. Despite these advancements, a breast cancer diagnosis is not only frightening but also a doorway into a confusing world of appointments, procedures, and expenses. While facing months of grueling treatments, breast cancer patients and their families are flooded with a bewildering amount of medical information to decipher and often have to advocate to receive basic care and attention. On top of these stresses, they also worry about paying their medical bills.

That is why the First Lady and I reignited the Cancer Moonshot and set ambitious goals to cut the overall cancer death rate by at least half in the next 25 years, transform more cancers from death sentences into treatable diseases, and improve the treatment experience for patients and their families. As a first step toward realizing these goals, I established the Advanced Research Projects Agency for Health (ARPA-H) and secured $2.5 billion in bipartisan funding to drive scientific breakthroughs in prevention, detection, and treatment for cancer and other diseases. The agency is pioneering partnerships to help disseminate the impact of those breakthroughs to clinics and patients. And recently, it announced research into the use of mRNA technology, an innovative component of the COVID-19 vaccine, to train our own immune systems to fight cancer and other diseases. It will also lead the exploration of novel technologies to enhance the precision and accuracy of surgical procedures involved in removing cancerous tumors from the body. Also, the first class of Moonshot scholars has been selected, which will help build a cancer research workforce that better represents the diversity of America and prepare a new wave of innovators in the cancer field.

Improving treatment options is only part of the fight. We also need to make those treatments affordable for everyone who needs them. That is why I made it a priority for the Inflation Reduction Act to cap out-of-pocket drug costs for seniors on Medicare at $2,000 per year—including expensive cancer drugs. My Administration has also strengthened Medicaid and the Affordable Care Act (ACA) to expand and protect health care coverage, saving nearly 15 million Americans $800 per year on health insurance premiums.

Because screening and early detection are critical to saving the lives of breast cancer patients, my Administration remains committed to maintaining and improving the accessibility of cancer care secured in the ACA. This means requiring insurers to pay for cancer screenings—including mammograms—as well as maintaining coverage for cancer survivors and others who have preexisting conditions. In addition, we are doubling our investment and making new alliances with community health centers that provide early detection and support services to underserved communities. Most recently, we also expanded access to breast cancer screenings for any veteran exposed to burn pits—regardless of their age or family history.

More information is available online at cancer.gov/types/breast or by calling 1-800-422-6237 to reach information specialists at the National Cancer Institute, who can answer cancer-related questions in English and Spanish. Also, the Centers for Disease Control and Prevention's National Breast and Cervical Cancer Early Detection Program provides breast cancer screenings and diagnostic services to those with low incomes who are uninsured or otherwise qualify for the program—learn more at cdc.gov/cancer/nbccedp/screenings.htm.

For the lives we can save and those we have lost, let this National Breast Cancer Awareness Month be a moment of unity that rallies the country to end cancer as we know it. Together, we can give patients, survivors, and their families the care, hope, and support they deserve.

NOW, THEREFORE, I, JOSEPH R. BIDEN JR., President of the United States of America, by virtue of the authority vested in me by the Constitution and the laws of the United States, do hereby proclaim October 2023 as National Breast Cancer Awareness Month. I encourage citizens, government agencies, private businesses, nonprofit organizations, and other interested groups to join in activities that will increase awareness of what Americans can do to prevent and control breast cancer and pay tribute to those who have lost their lives to this disease.

IN WITNESS WHEREOF, I have hereunto set my hand this twenty-ninth day of September, in the year of our Lord two thousand twenty-three, and of the Independence of the United States of America the two hundred and forty-eighth.

[FR Doc. 2023-22230

Filed 10-3-23; 8:45 am]

Billing code 3395-F4-P